ENVIRONMENTAL PROTECTION AGENCY

[AD-FRL-7142-8]

RIN 2060-AI52

National Emission Standards for Hazardous Air Pollutants: Revision of Source Category List Under Section 112 of the Clean Air Act

AGENCY: Environmental Protection Agency (EPA).

ACTION: Notice of revisions to the list of categories of major and area sources.

SUMMARY: This notice publishes revisions to the list of categories of major and area sources of hazardous air pollutants (HAP) emissions. The source category list, which is required under section 112(c) of the Clean Air Act (CAA), constitutes a significant part of EPA's agenda for regulating stationary sources of air toxics emissions. The list was most recently published in the Federal Register on January 30, 2001.

This notice meets the requirement in section 112(c)(1) to publish periodically, but at least once every 8 years, a list of all categories of sources reflecting revisions since the initial list was published. Several of the revisions identified in this notice have previously been published in actions associated with proposing and promulgating emission standards for individual source categories, and public comments have been requested in the context of those actions. Some of the revisions in this notice have not been reflected in any previous notices and are being made on the Administrator's own motion, without public comment. Such revisions are deemed by EPA to be without need for public comment based on the nature of the actions. This notice does not include any revisions to the schedule for standards provided for by CAA section 112(e).

EFFECTIVE DATE: February 12, 2002.

ADDRESSES: Docket No. A-90-49, containing supporting information used in development of this notice, is available for public inspection and copying between 8 a.m. and 5:30 p.m., Monday through Friday, excluding legal holidays. The docket is located in EPA's Air and Radiation Docket and Information Center, Waterside Mall, Room M-1500, 401 M Street, SW, Washington, DC 20460, or by calling (202) 260-7548. A reasonable fee may be charged for copying docket materials.

FOR FURTHER INFORMATION CONTACT: Ms. Maria Noell, U.S. EPA, Office of Air Quality Planning and Standards (OAQPS), Organic Chemicals Group (C504-4), Research Triangle Park, North Carolina 27711, telephone number (919) 541-5607, facsimile number (919) 541-3470, electronic mail address noell.maria@epa.gov.

SUPPLEMENTARY INFORMATION: Docket. The docket for this action is A-90-49. The docket is an organized file of all the information submitted to or otherwise relied upon by the Agency in the development of this revised list of source categories. The principal purpose of the docket is to allow interested parties to identify and locate documents that serve as a record of the process engaged in by the Agency to publish today's revision to the source category list. The docket is available for public inspection at EPA's Air and Radiation Docket and Information Center, which is listed in the ADDRESSES section of this notice.

World Wide Web (WWW). In addition to being available in the docket, an electronic copy of today's notice will also be available on the WWW through the Technology Transfer Network (TTN). Following signature, a copy of the notice will be posted on the TTN's policy and guidance page for newly proposed or promulgated rules http://www.epa.gov/ttn/oarpg. The TTN provides information and technology exchange in various areas of air pollution control. If more information regarding the TTN is needed, call the TTN HELP line at (919) 541-5384.

I. What Is the History of the Source Category List?

The CAA requires, under section 112, that EPA list all categories of major sources emitting HAP and such categories of area sources warranting regulation and promulgate national emission standards for hazardous air pollutants (NESHAP) to control, reduce, or otherwise limit the emissions of HAP from such categories of major and area sources. Pursuant to the various specific listing requirements in section 112(c), on July 16, 1992 (57 FR 31576), we published a list of 174 categories of major and area sources—referred to as the initial list—for which we would develop emission standards. On December 3, 1993 (58 FR 63941), pursuant to requirements in section 112(e), we published a schedule for the promulgation of emission standards for each of the 174 initially listed source categories.

When we publish notices that affect actions relating to individual source categories, it is important to reflect the resultant changes on the list and schedule. However, we published two separate notices where we listed sources for specific pollutants under section 112(c)(6) on April 10, 1998 (63 FR 17838), and additional area sources under section 112(k) on July 19, 1999 (64 FR 38706). Please refer to these specific notices for those listings. Since we have already listed those sources in previous Federal Register notices, we are not relisting them in this notice at this time. On June 4, 1996 (61 FR 28197), we published a notice that referenced all previous list and schedule changes and consolidated those actions, along with several new actions, into a revised source category list and schedule. Subsequently, we published four additional notices which updated the list and schedule: February 12, 1998 (63 FR 7155); May 17, 1999 (64 FR 26743); November 18, 1999 (64 FR 63025); and January 30, 2001 (66 FR 8220). You should read the previous notices for information relating to the development of the initial list and schedule and subsequent changes.

II. Why Is EPA Issuing This Notice?

This notice announces all list changes that have occurred since we last updated the list on January 30, 2001 (66 FR 8220). The changes and the affected source categories, are:

Changes to Source Category Names

• Friction Materials Manufacturing

Addition of Source Categories

• Coal- and Oil-Fired Electric Utility Steam Generating Units

• Wet-Formed Fiberglass Mat Production

Deletion of Source Categories

• Asphalt Concrete Manufacturing

• Uranium Hexafluoride

• Sewage Sludge Incineration

Subsumptions of Source Categories

• Cellulose Ethers Production

• Miscellaneous Viscose Processes

Changes to the Scope of a Source Category

• Process Heaters

The source category list and promulgation schedule, updated to include today's changes to the list as well as actions from previous notices, are presented in Table 1. Table 1 also includes Federal Register citations for notices related to the source categories (Table 1 omits proposal notices once a rule or rule amendment has been promulgated). Source categories for which revisions have been made in today's notice are annotated in Table 1 for ease in discerning where revisions have been made.

For general descriptions of source categories listed in Table 1, please refer to “Documentation for Developing the Initial Source Category List” (EPA-450/3-91-030) and the Federal Register notice for the first revision of the source category list and schedule (61 FR 28197, June 4, 1996). For subsequent changes to descriptions of source categories for which a rule has been promulgated, please consult Table 1 for the citation of the Federal Register notice that includes the amended definition and corresponding rule applicability.

III. What Are the Revisions EPA Is Making to the Source Category List?

The following sections describe revisions to the source category list since January 30, 2001.

A. Changes to Source Category Names

We are renaming the Friction Products Manufacturing source category to Friction Materials Manufacturing so that the name better describes the source category.

B. Addition of Source Categories

Section 112(n)(1)(A) of the CAA requires the Administrator to determine whether regulation of HAP from electric utility steam generating units is appropriate and necessary. This finding was to be made after the consideration of the results of the study mandated by the same section, reported to Congress in EPA's February 1998 “Study of Hazardous Air Pollutant Emissions from Electric Utility Steam Generating Units—Final Report to Congress.” The EPA gathered additional information and announced on December 20, 2000 (65 FR 79825) that regulation of HAP emissions from coal- and oil-fired electric utility steam generating units was appropriate and necessary. As a result of this determination, the source category for Coal- and Oil-Fired Electric Utility Steam Generating Units was added to the list of source categories under section 112(c) of the CAA in that December 20, 2000 notice. In today's notice, we are simply updating the source category list to reflect that addition.

Today's notice also updates the source category list to reflect the addition of a new source category called Wet-Formed Fiberglass Mat Production. For further information, you should refer to the proposed preamble for the NESHAP for Wet-Formed Fiberglass Mat Production (65 FR 34277), which serves as the official action for adding that source category.

C. Deletion of Source Categories

The Administrator may, where appropriate, delete categories of sources on the Administrator's own motion or on petition. In today's notice, we are deleting the Asphalt Concrete Manufacturing, Uranium Hexafluoride Production, and Sewage Sludge Incineration source categories on the Administrator's own motion. As discussed in the initial list notice (57 FR 31576), we included these categories on the list because at the time, we believed there were major sources in each category, either because they were major sources in their own right or because of collocation with other sources of HAP. These source categories are being deleted because available data indicate that there are no major sources in any of the source categories.

1. Asphalt Concrete Manufacturing

In today's notice, we are deleting the source category Asphalt Concrete Manufacturing because available data indicate that there are no major sources. This source category was initially listed in July 1992 because at the time, we believed there were major sources in the category. Emissions data, along with emission factors, were used to estimate HAP emissions from eleven asphalt concrete manufacturing plants employing various production processes and different fuels. Emissions of total HAP at individual plants range from 1.5 tons per year (tpy) to 6.4 tpy. In addition, emission factors were used to estimate HAP emissions from a plant with a high annual production of 1.2 million tons of asphalt concrete. We estimate total HAP emissions from that plant to be 6.2 tpy. Based on the above information, we have concluded that no asphalt concrete manufacturing facility has the potential to emit HAP approaching major source levels.

2. Uranium Hexafluoride Production

The Uranium Hexafluoride Production source category was initially listed in July 1992. Information collected since the listing indicates that there is only one facility producing uranium hexafluoride in the United States. We visited the facility and reviewed emissions estimates provided by the facility. We estimate total plantwide emissions of HAP, including emissions from uranium hexafluoride production and fluorine production, to be less than 5 tpy. Therefore, since there are no sources in this category with the potential to emit HAP at a level approaching the major source threshold, we are removing this source category from the list.

3. Sewage Sludge Incineration

The Sewage Sludge Incineration source category was initially listed in July 1992. Sewage sludge incinerators have been reevaluated for emissions of HAP. After evaluation of all emissions information available, including additional testing conducted since the initial listing, we have concluded that the Sewage Sludge Incineration source category does not have any sources with the potential to emit HAP at a level approaching major source levels; therefore, we are removing the Sewage Sludge Incineration source category from the list of source categories under CAA section 112.

D. Subsumptions of Source Categories

Today's notice updates the source category list to reflect the subsumption of seven categories related to cellulose production into two source categories called Cellulose Ethers Production and Miscellaneous Viscose Processes. We are combining the Carboxymethylcellulose Production, Cellulose Ethers Production, and Methylcellulose Production source categories into the Cellulose Ethers Production source category. We are also combining four existing source categories into a new source category called Miscellaneous Viscose Processes. This newly defined source category subsumes the Rayon Production, Cellulose Food Casing Manufacturing, Cellophane Production, and Cellulosic Sponge Manufacturing source categories. For further information, you should refer to the proposed preamble for the Cellulose Products Manufacturing NESHAP (65 FR 52166), which serves as the official action to combine the source categories and to name the newly defined source categories.

E. Changes to the Scope of a Source Category

Today's action serves to redefine the scope of the Process Heaters source category to only include indirect-fired process heaters.

Both direct-fired and indirect-fired process heaters were included in the initial listing of the source category. Direct-fired process heaters are those in which the products of combustion mix with process materials and the combined emissions exit the same stack. By contrast, indirect-fired process heaters are those where the process materials are not mixed with products of combustion and, therefore, the emissions arise solely from products of combustion. We included direct-fired process heaters under other MACT standards for each relevant industry source category since emissions from direct-fired heaters are source and industry specific and, therefore, only indirect-fired process heaters need to be included in the Process Heaters source category.

IV. Is This Action Subject to Judicial Review?

Section 112(e)(4) of the CAA states that, notwithstanding section 307 of the CAA, no action of the Administrator listing a source category or subcategory under section 112(c) shall be a final Agency action subject to judicial review, except that any such action may be reviewed under section 307 when the Administrator issues emission standards for such pollutant or category. Section 112(e)(3) states that the determination of priorities for promulgation of standards for the listed source categories is not a rulemaking and is not subject to judicial review, except that failure to promulgate any standard pursuant to the schedule established under section 112(e) shall be subject to review under section 304 of the CAA. Therefore, today's notice is not subject to judicial review.

V. Is EPA Asking for Public Comment?

Prior to issuance of the initial source category list, we published a draft initial list for public comment (56 FR 28548, June 21, 1991). Although we were not required to take public comment on the initial source category list, we believed it was useful to solicit input on a number of issues related to the list. Indeed, in most instances, even where there is no statutory requirement to take comment, we solicit public comments on actions we are contemplating. We have decided, however, that it is unnecessary to solicit additional public comment on the revisions reflected in today's notice. Where we believe it is useful to solicit input on certain actions, we will offer interested parties an opportunity to provide comments on proposed individual emission standards.

VI. Administrative Requirements

Today's notice is not a rule; it is essentially an information sharing activity which does not impose regulatory requirements or costs. Therefore, the requirements of Executive Order 13045 (Protection of Children from Environmental Health Risks and Safety Risks), Executive Order 13084 (Consultation and Coordination with Indian Tribal Governments), Executive Order 13132 (Federalism), the Regulatory Flexibility Act, the National Technology Transfer and Advancement Act, and the Unfunded Mandates Reform Act do not apply to today's notice. Also, this notice does not contain any information collection requirements and, therefore, is not subject to the Paperwork Reduction Act, 44 U.S.C. 3501 et seq.

Under Executive Order 12866 (58 FR 51735, October 4, 1993), a regulatory action determined to be “significant” is subject to the Office of Management and Budget (OMB) review and the requirements of the Executive Order. The Executive Order defines “significant” regulatory action as one that is likely to lead to a rule that may either (1) have an annual effect on the economy of $100 million or more, or adversely affect a sector of the economy, productivity, competition, jobs, the environment, public health or safety, or State, local or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

The OMB has determined that this action is not significant under terms of Executive Order 12866.

Dated: February 6, 2002.
Robert Brenner,
Acting Assistant Administrator for Air and Radiation.

Table 1.—Categories of Sources of Hazardous Air Pollutants and Regulation Promulgation Schedule by Industry Group
[Revision date: February 12, 2002]
Industry group Source category ᵃ | Statutory promulgation date/Federal Register citation ᵇ
Fuel Combustion:
Coal- and Oil-fired Electric Utility Steam Generating Units | Added to 112(c) list 12/20/2000 (65FR79825)
Combustion Turbines | 11/15/2000
Engine Test Facilities | 11/15/2000
Industrial Boilers | 11/15/2000
Institutional/Commercial Boilers | 11/15/2000
Process Heaters | Redefined Scope as of Today 11/15/2000
Reciprocating Internal Combustion Engines | 11/15/2000
Rocket Testing Facilities | 11/15/2000
Stationary Internal Combustion Engines | Renamed 64FR63025(N)
Stationary Turbines | Renamed 64FR63025(N)
Non-Ferrous Metals Processing:
Lead Acid Battery Manufacturing | Deleted 61FR28197(N)
Primary Aluminum Production | 11/15/1997 62FR52383(F)
Primary Copper Smelting | 11/15/2000 63FR19582(P) 63FR39326(SP)
Primary Lead Smelting | 11/15/1997 64FR30194(F)
Primary Magnesium Refining | 11/15/2000
Secondary Aluminum Production | 11/15/1997 63FR55489(ap) 63FR55491(S) 65FR15689(F)
Secondary Lead Smelting | 11/15/1994 60FR32587(F) 61FR27785(A) 61FR65334(A) 62FR32209(A) 63FR45007(A) 64FR4570(A) 64FR69637(A)
Ferrous Metals Processing:
Coke By-Product Plants | Deleted 66FR8220(N)
Coke Ovens: Charging, Top Side, and Door Leaks | 12/31/1992 58FR57898(F) 59FR01922(C)
Coke Ovens: Pushing, Quenching, and Battery Stacks | 11/15/2000 66FR35326(P)
Ferroalloys Production | Renamed 64FR63025(N)
Ferroalloys Production: Silicomanganese and Ferromanganese | 11/15/1997 64FR27450(F) 66FR16007(A) 66FR16024(a)
Integrated Iron and Steel Manufacturing | 11/15/2000 66FR36836(P)
Iron Foundries | 11/15/2000
Non-Stainless Steel Manufacturing—Electric Arc Furnace (EAF) Operation | Deleted 61FR28197(N)
Stainless Steel Manufacturing—Electric Arc Furnace (EAF) Operation | Deleted 61FR28197(N)
Steel Foundries | 11/15/2000
Steel Pickling—HCl Process | Renamed 64FR63025(N)
Steel Pickling—HCl Process Facilities and Hydrochloric Acid Regeneration Plants | 11/15/1997 64FR33202(F)
Mineral Products Processing:
Alumina Processing | Deleted 66FR8220(N)
Asphalt Concrete Manufacturing | Deleted as of today
Asphalt Processing | 11/15/2000
Asphalt Roofing Manufacturing | 11/15/2000
Asphalt/Coal Tar Application—Metal Pipes | 11/15/2000
Chromium Refractories Production | Renamed 64FR63025(N)
Clay Products Manufacturing | 11/15/2000
Lime Manufacturing | 11/15/2000
Mineral Wool Production | 11/15/1997 64FR29490(F)
Portland Cement Manufacturing | 11/15/1997 64FR31897(F)
Refractories Manufacturing | 11/15/2000
Taconite Iron Ore Processing | 11/15/2000
Wool Fiberglass Manufacturing | 11/15/1997 64FR31695(F)
Petroleum and Natural Gas Production and Refining:
Oil and Natural Gas Production | 11/15/1997 64FR32610(F)
Natural Gas Transmission and Storage | 11/15/2000 64FR32610(F)
Petroleum Refineries—Catalytic Cracking (Fluid and other) Units, Catalytic Reforming Units, and Sulfur Plant Units | Renamed 11/15/1997 66FR8220(N)
Petroleum Refineries—Catalytic Cracking Units, Catalytic Reforming Units, and Sulfur Recovery Units | 11/15/1997 63FR78890(P)
Petroleum Refineries—Other Sources Not Distinctly Listed | 11/15/1994 60FR43244(F) 61FR07051(C) 61FR29876(C) 62FR07937(A)
Liquids Distribution:
Gasoline Distribution (Stage 1) | 11/15/1994 59FR42788(N) 59FR64303(F) 60FR07627(C) 60FR32912(C) 60FR43244(A) 60FR57628(C) 60FR62991(S) 61FR07718(A) 61FR58547(N) 62FR09087(A)
Marine Vessel Loading Operations | 11/15/1997 60FR48399(F)
Organic Liquids Distribution (Non-Gasoline) | 11/15/2000
Surface Coating Processes:
Aerospace Industries | 11/15/1994 60FR45956(F) 61FR04903(C) 61FR66227(C) 63FR15016(A) 63FR46525(A) 65FR3642(a)
Auto and Light Duty Truck (Surface Coating) | 11/15/2000
Flat Wood Paneling (Surface Coating) | Renamed 64FR63025(N)
Large Appliance (Surface Coating) | Redefined Scope 11/15/2000 64FR63025(N) 65FR81134(P)
Magnetic Tapes (Surface Coating) | 11/15/1994 59FR64580(F)
Manufacture of Paints, Coatings, and Adhesives | 11/15/2000
Metal Can (Surface Coating) | 11/15/2000
Metal Coil (Surface Coating) | 11/15/2000 63FR44616(P)
Metal Furniture (Surface Coating) | 11/15/2000
Miscellaneous Metal Parts and Products (Surface Coating) | 11/15/2000
Paper and Other Webs (Surface Coating) | 11/15/2000 63FR55332(P)
Plastic Parts and Products (Surface Coating) | 11/15/2000
Printing, Coating, and Dyeing of Fabrics | 11/15/2000
Printing/Publishing (Surface Coating) | 11/15/1994 61FR27132(F)
Shipbuilding and Ship Repair (Surface Coating) | 11/15/1994 60FR64330(F) 61FR30814(A) 61FR66226(C)
Wood Building Products (Surface Coating) | 11/15/2000
Wood Furniture (Surface Coating) | 11/15/1994 60FR62930(F) 62FR30257(C) 62FR31361(A) 63FR71376(A)
Waste Treatment and Disposal:
Hazardous Waste Incineration | 11/15/2000 64FR52828(F)
Municipal Landfills | Renamed 11/15/2000 66FR8220(N)
Municipal Solid Waste Landfills | 11/15/2000 63FR66672(P)
Off-Site Waste and Recovery Operations | 11/15/1994 61FR34140(F) 64FR38950(A)
Publicly Owned Treatment Works (POTW) Renamed Emissions ᶜ | 11/15/1995 66FR8220(N)
Publicly Owned Treatment Works (POTW) ᶜ | 11/15/1995 64FR57572(F)
Sewage Sludge Incineration | Deleted as of today
Site Remediation | 11/15/2000
Solid Waste Treatment, Storage and Disposal Facilities (TSDF) | Renamed 59FR51913(N)
Agricultural Chemicals Production:
Pesticide Active Ingredient Production | 11/15/1997 64FR33549(F)
4-Chloro-2-Methylphenoxyacetic Acid Production | Subsumed 64FR63025(N)
2,4-D Salts and Esters Production | Subsumed 64FR63025(N)
4,6-Dinitro-o-Cresol Production | Subsumed 64FR63025(N)
Butadiene-Furfural Cotrimer (R-11) Production ᵈ | Subsumed 64FR63025(N)
Captafol Production ᵈ | Subsumed 64FR63025(N)
Captan Production ᵈ | Subsumed 64FR63025(N)
Chloroneb Production | Subsumed 64FR63025(N)
Chlorothalonil Production ᵈ | Subsumed 64FR63025(N)
Dacthal (tm) Production ᵈ | Subsumed 64FR63025(N)
Sodium Pentachlorophenate Production | Subsumed 64FR63025(N)
Tordon (tm) Acid Production ᵈ | Subsumed 64FR63025(N)
Fibers Production Processes:
Acrylic Fibers/Modacrylic Fibers Production | 11/15/1997 64FR34853(F) 64FR63695(A) 64FR63702(A) 64FR63779(a)
Spandex Production | 11/15/2000 65FR76408(P)
Food and Agriculture Processes:
Baker's Yeast Manufacturing | Renamed 64FR63025(N)
Manufacturing of Nutritional Yeast | 11/15/2000 63FR55812(P) 66FR27876(F)
Solvent Extraction for Vegetable Oil Production | 11/15/2000 63FR34251(P) 66FR19006(F)
Vegetable Oil Production | 11/15/2000 66FR8220(N)
Pharmaceutical Production Processes:
Pharmaceuticals Production ᵈ | 11/15/1997 63FR19151(a) 63FR50280(F) 66FR40121(F) 66FR40903(P) 66FR40121(A) 66FR40166(P)
Polymers and Resins Production:
Acetal Resins Production | 11/15/1997 64FR34853(F) 64FR63695(A) 64FR63702(A) 64FR63779(a)
Acrylonitrile-Butadiene-Styrene Production | 11/15/1994 61FR48208(F) 61FR54342(C) 61FR59849(N) 62FR01835(A) 62FR37720(A) 63FR9944(C) 63FR67879(N) 64FR11536(A) 64FR35023(S) 66FR11233(A) 66FR11543(F) 66FR36924(A) 66FR40903(A)
Alkyd Resins Production | 11/15/2000
Amino Resins Production | 11/15/1997 65FR3275(F)
Boat Manufacturing | Redefined scope 11/15/2000 63FR43842(P) 64FR63025(N) 66FR44218(F)
Butyl Rubber Production | 11/15/1994 61FR46906(F) 61FR59849(N) 62FR01835(A) 62FR12546(N) 62FR37720(A) 63FR67879(N) 64FR11536(A) 64FR35023(S) 66FR11233(A) 66FR11543(F) 66FR36924(A) 66FR40903(A)
Cellulose Ethers Production | 11/15/2000 65FR52166(P)
Carboxymethylcellulose Production | Subsumed as of today 11/15/2000
Methylcellulose Production | Subsumed as of today 11/15/2000
Epichlorohydrin Elastomers Production | 11/15/1994 61FR46906(F) 61FR59849(N) 62FR01835(A) 62FR12546(N) 62FR37720(A) 63FR67879(N) 64FR11536(A) 64FR35023(S) 66FR11233(A) 66FR11543(F) 66FR36924(A) 66FR40903(A)
Epoxy Resins Production | 11/15/1994 60FR12670(F)
Ethylene-Propylene Rubber Production | 11/15/1994 61FR46906(F) 61FR59849(N) 62FR01835(A) 62FR12546(N) 62FR37720(A) 63FR67879(N) 64FR11536(A) 64FR35023(S) 66FR11233(A) 66FR11543(F) 66FR36924(A) 66FR40903(A)
Flexible Polyurethane Foam Production | 11/15/1997 62FR05074(C) 64FR34853(F)
Hypalon (tm) Production ᵈ | 11/15/1994 61FR46906(F) 61FR59849(N) 62FR01835(A) 62FR12546(N) 62FR37720(A) 63FR67879(N) 64FR11536(A) 64FR35023(S) 66FR11233(A) 66FR11543(F) 66FR36924(A) 66FR40903(A)
Maleic Anhydride Copolymers Production | 11/15/2000
Methyl Methacrylate-Acrylonitrile-Butadiene-Styrene Production ᵈ | 11/15/1994 61FR48208(F) 61FR54342(C) 61FR59849(N) 62FR01835(A) 62FR37720(A) 63FR9944(C) 63FR67879(N) 64FR11536(A) 64FR35023(S) 66FR11233(A) 66FR11543(F) 66FR36924(A) 66FR40903(A)
Methyl Methacrylate-Butadiene-Styrene Terpolymers Production ᵈ | 11/15/1994 61FR48208(F) 61FR54342(C) 61FR59849(N) 62FR01835(A) 62FR37720(A) 63FR9944(C) 63FR67879(N) 64FR11536(A) 64FR35023(S) 66FR11233(A) 66FR11543(F) 66FR36924(A) 66FR40903(A)
Neoprene Production | 11/15/1994 61FR46906(F) 61FR59849(N) 62FR01835(A) 62FR12546(N) 62FR37720(A) 63FR67879(N) 64FR11536(A) 64FR35023(S) 66FR11233(A) 66FR11543(F) 66FR36924(A) 66FR40903(A)
Nitrile Butadiene Rubber Production | 11/15/1994 61FR46906(F) 61FR59849(N) 62FR01835(A) 62FR12546(N) 62FR37720(A) 63FR67879(N) 64FR11536(A) 64FR35023(S) 66FR11233(A) 66FR11543(F) 66FR36924(A) 66FR40903(A)
Nitrile Resins Production | 11/15/2000 61FR48208(F) 61FR54342(C) 61FR59849(N) 62FR01835(A) 62FR37720(A) 63FR9944(C) 63FR67879(N) 64FR11536(A) 64FR35023(S) 66FR11233(A) 66FR11543(F) 66FR36924(A) 66FR40903(A)
Non-Nylon Polyamides Production | 11/15/1994 60FR12670(F)
Nylon 6 Production | Deleted 63FR7155(N)
Phenolic Resins Production | 65FR3275(F)
Polybutadiene Rubber Production ᵈ | 11/15/1994 61FR46906(F) 61FR59849(N) 62FR01835(A) 62FR12546(N) 62FR37720(A) 63FR67879(N) 64FR11536(A) 64FR35023(S) 66FR11233(A) 66FR11543(F) 66FR36924(A) 66FR40903(A)
Polycarbonates Production ᵈ | 11/15/1997 64FR34853(F) 64FR63695(A) 64FR63702(A) 64FR63779(a)
Polyester Resins Production | 11/15/2000
Polyether Polyols Production | 11/15/1997 64FR29420(F) 64FR31895(C)
Polyethylene Terephthalate Production | 11/15/1994 61FR48208(F) 61FR54342(C) 61FR59849(N) 62FR01835(A) 62FR30993(A) 62FR37720(A) 63FR9944(C) 63FR15312(A) 63FR67879(N) 64FR11536(A) 64FR30406(A) 64FR30456(N) 64FR35023(S) 66FR11233(A) 66FR11543(F) 66FR36924(A) 66FR40903(A)
Polymerized Vinylidene Chloride Production | 11/15/2000
Polymethyl Methacrylate Resins Production | 11/15/2000
Polystyrene Production | 11/15/1994 61FR48208(F) 61FR54342(C) 61FR59849(N) 62FR01835(A) 62FR37720(A) 63FR9944(C) 63FR67879(N) 64FR11536(A) 64FR35023(S)
Polysulfide Rubber Production ᵈ | 11/15/1994 61FR46906(F) 61FR59849(N) 62FR01835(A) 62FR12546(N) 62FR37720(A) 63FR67879(N) 64FR11536(A) 64FR35023(S) 66FR11233(A) 66FR11543(F) 66FR36924(A) 66FR40903(A)
Polyvinyl Acetate Emulsions Production | 11/15/2000
Polyvinyl Alcohol Production | 11/15/2000
Polyvinyl Butyral Production | 11/15/2000
Polyvinyl Chloride and Copolymers Production | 11/15/2000 65FR76958(P)
Reinforced Plastic Composites Production | 11/15/2000 66FR40324(P)
Styrene-Acrylonitrile Production | 11/15/1994 61FR48208(F) 61FR54342(C) 61FR59849(N) 62FR01835(A) 62FR37720(A) 63FR9944(C) 63FR67879(N) 64FR11536(A) 64FR35023(S) 66FR11233(A) 66FR11543(F) 66FR36924(A) 66FR40903(A)
Styrene-Butadiene Rubber and Latex Production ᵈ | 11/15/1994 61FR46906(F) 61FR59849(N) 62FR01835(A) 62FR12546(N) 62FR37720(A) 63FR67879(N) 64FR11536(A) 64FR35023(S) 66FR11233(A) 66FR11543(F) 66FR36924(A) 66FR40903(A)
Production of Inorganic Chemicals:
Ammonium Sulfate Production—Caprolactam By-Product Plants | 11/15/2000
Antimony Oxides Manufacturing | Promulgation rescheduled; deleted 64FR63025(N)
Carbon Black Production | 11/15/2000 65FR76408(N)
Chlorine Production | 11/15/2000
Chromium Chemicals Manufacturing | Deleted 61FR28197(N)
Cyanide Chemicals Manufacturing | 11/15/2000 65FR76408(P)
Cyanuric Chloride Production | Deleted 63FR7155(N)
Fumed Silica Production | Corrected 11/15/2000 64FR63025(N)
Hydrochloric Acid Production | 11/15/2000
Hydrogen Cyanide Production | Subsumed 63FR7155(N)
Hydrogen Fluoride Production | 11/15/1997 64FR34853(F) 64FR63702(A) 64FR63779(a)
Phosphate Fertilizers Production | 11/15/1997 64FR31358(F)
Phosphoric Acid Manufacturing | 11/15/1997 64FR31358(F)
Quaternary Ammonium Compounds Production | Moved 61FR28197(N)
Sodium Cyanide Production | Subsumed 63FR7155(N)
Uranium Hexafluoride Production | Deleted as of today
Production of Organic Chemicals:
Ethylene Processes | 11/15/2000 65FR76408(P)
Quaternary Ammonium Compounds Production | 11/15/2000
Synthetic Organic Chemical Manufacturing | 11/15/1992 59FR19402(F) 59FR29196(A) 59FR32339(N) 59FR48175(C) 59FR53359(S) 59FR54131(S) 60FR05320(A) 60FR18020(A) 60FR18026(A) 60FR63624(C) 61FR31435(A) 61FR07716(A) 61FR43544(N) 61FR64572(A) 62FR02722(A) 63FR67787(A) 64FR20189(C) 65FR3169(a)
Tetrahydrobenzaldehyde Production | Subsumed 63FR26078(F) 64FR63025(N)
Miscellaneous Processes:
Aerosol Can-Filling Facilities | Promulgation rescheduled; deleted 64FR63025(N)
Benzyltrimethylammonium Chloride Production | 11/15/2000
Butadiene Dimers Production | Renamed 61FR28197
Carbonyl Sulfide Production | 11/15/2000
Chelating Agents Production | 11/15/2000
Chlorinated Paraffins Production ᵈ | 11/15/2000
Chromic Acid Anodizing | 11/15/1994 60FR04948(F) 60FR27598(C) 60FR33122(C) 61FR27785(A) 61FR04463(A) 62FR42918(A)
Commercial Dry Cleaning (Perchloroethylene) —Transfer Machines | 11/15/1992 58FR49354(F) 58FR66287(A) 60FR64002(A) 61FR27785(A) 61FR49263(A)
Commercial Sterilization Facilities | 11/15/1994 59FR62585(F) 61FR27785(A) 64FR67789(A) 64FR69637(A)
Decorative Chromium Electroplating | 11/15/1994 60FR04948(F) 60FR27598(C) 60FR33122(C) 61FR27785(A) 61FR04463(A) 62FR42918(A) 64FR69637(A)
Dodecanedioic Acid Production | Subsumed 59FR19402(N)
Dry Cleaning (Petroleum Solvent) | Deleted 66FR8220(N)
Ethylidene Norbornene Production ᵈ | 11/15/2000
Explosives Production | 11/15/2000
Flexible Polyurethane Foam Fabrication Operations | 11/15/2000 66FR41718(P)
Friction Materials Manufacturing | Name Changed as of Today 11/15/2000
Halogenated Solvent Cleaners | 11/15/1994 59FR61801(F) 59FR67750(C) 60FR29484(C) 63FR24749(S) 63FR68397(A) 64FR45187(A) 64FR56173(A) 64FR67793(A) 64FR69637(A) 64FR67793(A)
Hard Chromium Electroplating | 11/15/1994 60FR04948(F) 60FR27598(C) 60FR33122(C) 61FR27785(A) 61FR04463(A) 62FR42918(A) 64FR69637(A)
Hydrazine Production | 11/15/2000
Industrial Cleaning (Perchloroethylene)—Dry-to-dry machines | 11/15/1992 58FR49354(F) 58FR66287(A) 60FR64002(A) 61FR27785(A) 61FR49263(A)
Industrial Dry Cleaning (Perchloroethylene)—Transfer Machines | 11/15/1992 58FR49354(F) 58FR66287(A) 60FR64002(A) 61FR27785(A) 61FR49263(A)
Industrial Process Cooling Towers | 11/15/1994 59FR46339(F)
Leather Finishing Operations | 11/15/2000 63FR58702(P)
Leather Tanning and Finishing Operations | Renamed 66FR8220(N)
Miscellaneous Viscose Processes | Added as of today 11/15/2000 65FR52166(P)
Cellophane Production | Subsumed as of today 11/15/2000 65FR52166(P)
Cellulose Food Casing Manufacturing | Subsumed as of today 11/15/2000 65FR52166(P)
Cellulosic Sponge Manufacturing | Subsumed as of today Added 11/15/2000 64FR63025 65FR52166(P)
Rayon Production | Subsumed as of today 11/15/2000 65FR52166(P)
OBPA/1,3-Diisocyanate Production ᵈ | 11/15/2000
Paint Stripper Users | Renamed 64FR63025(N)
Paint Stripping Operations | 11/15/2000
Photographic Chemicals Production | 11/15/2000
Phthalate Plasticizers Production | 11/15/2000
Plywood and Composite Wood Products | 11/15/2000
Plywood/Particle Board Manufacturing | Renamed 64FR63025(N)
Polyether Polyols Production | Moved 61FR28197(N)
Pulp and Paper Production | Promulgation rescheduled 11/15/2000 64FR63025 63FR18504(F) 63FR42238(C) 63FR49455(A) 63FR71385(A) 64FR17555(A) 65FR3907(a) 65FR80755(F) 66FR24268(C)
Rocket Engine Test Firing | Moved and renamed 64FR63025(N)
Rubber Chemicals Manufacturing | 11/15/2000
Rubber Tire Manufacturing | 11/15/2000 63FR62414(P)
Semiconductor Manufacturing | 11/15/2000
Symmetrical Tetrachloropyridine Productionᵈ | 11/15/2000
Tetrahydrobenzaldehyde Production | Moved 64FR63025(N)
Tire Production | Renamed 64FR63025(N)
Wet-Formed Fiberglass Mat Production | Added as of today 11/15/2000 65FR34277(P)
Wood Treatment | Deleted 61FR28197(N)
Categories of Area Sources:
Asbestos Processing | Deleted 60FR61550
Chromic Acid Anodizing | 11/15/1994 60FR04948(F) 60FR27598(C) 60FR33122(C) 61FR27785(A) 61FR04463(A) 62FR42918(A) 64FR69637(A)
Commercial Dry Cleaning (Perchloroethylene) -Dry-to-Dry Machines | 11/15/1992 58FR49354(F) 58FR66287(A) 60FR64002(A) 61FR27785(A) 61FR49263(A) 64FR69637(A)
Commercial Dry Cleaning (Perchloroethylene) -Transfer Machines | 11/15/1992 58FR49354(F) 58FR66287(A) 60FR64002(A) 61FR27785(A) 61FR49263(A) 64FR69637(A)
Commercial Sterilization Facilities | 11/15/1994 59FR62585(F) 61FR27785(A) 64FR67789(A) 64FR69637(A)
Decorative Chromium Electroplating | 11/15/1994 60FR04948(F) 60FR27598(C) 60FR33122(C) 61FR27785(A) 61FR04463(A) 62FR42918(A) 64FR69637(A)
Halogenated Solvent Cleaners | 11/15/1994 59FR61801(F) 59FR67750(C) 60FR29484(C) 63FR24749(S) 63FR68397(A) 64FR45187(A) 64FR56173(A) 64FR67793(A) 64FR69637(A) 64FR67793(A)
Hard Chromium Electroplating | 11/15/1994 60FR04948(F) 60FR27598(C) 60FR33122(C) 61FR27785(A) 61FR04463(A) 62FR42918(A) 64FR69637(A)
Hazardous Waste Incineration | 11/15/2000 64FR52828(F)
Portland Cement Production | 11/15/1997 64FR31897(F)
Secondary Aluminum Production | 11/15/1997 63FR55489(ap) 63FR55491(S) 65FR15689(F)
Secondary Lead Smelting | 11/15/1997 60FR32587(F) 61FR27785(A) 61FR65334(A) 62FR32209(A) 64FR69637(A)
ᵃ Only sources within any category located at a major source shall be subject to emission standards under CAA section 112 unless a finding is made of a threat of adverse effects to human health or the environment for the area sources in a category. All listed categories are exclusive of any specific operations or processes included under other categories that are listed separately.
ᵇ This schedule does not establish the order in which the rules for particular source categories will be proposed or promulgated. Rather, it requires that emissions standards pursuant to CAA section 112(d) for a given source category be promulgated by the specified date.
The markings in the “Statutory Promulgation Date/Federal Register Citation” column of Table 1 denote the following:
(A): final amendment to a final rulemaking action
(a): proposed amendment to a final rulemaking action
(C): correction (or clarification) published subsequent to a proposed or final rulemaking action
(F): final rulemaking action
(N): notice to announce general information, such as an Agency decision, availability of new data, administrative updates, etc.
(P): proposed rulemaking action
(ap): advance notice of proposed rulemaking action
(R): reopening of a proposed action for public comment
(S): announcement of a stay, or partial stay, of the rule requirements
Moved: the source category is relocated to a more appropriate industry group
Subsumed: the source category is included within the definition of another listed category and therefore is no longer listed as a separate source category
Renamed: the title of this source category is changed to a more appropriate title
Deleted: the source category is removed from the source category list
ᶜ The Publicly Owned Treatment Works (POTW) Emissions source category had a statutory deadline for regulatory promulgation of November 15, 1995, as established by CAA section 112(e)(5). However, for purposes of determining the 18-month period applicable to the POTW source category under section 112(j)(2), the promulgation deadline was November 15, 1997. This latter date is consistent with the section 112(e) schedule for the promulgation of emissions standards, as published in the Federal Register on December 3, 1993 (58 FR 63941).
ᵈ Equipment handling specific chemicals for these categories or subsets of these categories is subject to a negotiated standard for equipment leaks contained in the Hazardous Organic NESHAP (HON), which was promulgated on April 22, 1994. The HON includes a negotiated standard for equipment leaks from the SOCMI category and 20 non-SOCMI categories (or subsets of these categories). The specific processes affected within the categories are listed in Section XX.XO(c) of the March 6, 1991 Federal Register notice (56 FR 9315).

[FR Doc. 02-3348 Filed 2-11-02; 8:45 am]

BILLING CODE 6560-50-P